NUCLEAR REGULATORY COMMISSION

[Docket Nos. 52-025 and 52-026; NRC-2008-0252]

Vogtle Electric Generating Plant, Units 3 and 4; Issuance of Combined Licenses and Limited Work Authorizations and Record of Decision

AGENCY: Nuclear Regulatory Commission.

ACTION: Issuance of Combined Licenses (NPF-91 and NPF-92) and Limited Work Authorization (LWA) (Nos. LWA-001 and LWA-002) and Record of Decision Issuance.

FOR FURTHER INFORMATION CONTACT: Ravindra Joshi, Office of New Reactors, U.S. Nuclear Regulatory Commission, Washington, DC 20555-0001; telephone: 301-415-6191; email: ravindra.joshi@nrc.gov.

SUPPLEMENTARY INFORMATION:

I. Introduction

Pursuant to Title 10 of the Code of Federal Regulations (10 CFR) 2.106, the Nuclear Regulatory Commission (NRC) is providing notice of the issuance of Combined Licenses (COL), NPF-91 and NPF-92 and Limited Work Authorizations LWA-001 and LWA-002 to Southern Nuclear Operating Company (SNC), Georgia Power Company, Oglethorpe Power Corporation, Municipal Electric Authority of Georgia, and the City of Dalton, Georgia, an incorporated municipality in the State of Georgia acting by and through its Board of Water, Light and Sinking Fund Commissioners. With respect to the application for COLs and for LWAs filed by SNC, on behalf of itself and the other four entities named above, the NRC finds that the applicable standards and requirements of the Atomic Energy Act of 1954, as amended, and the Commissions regulations have been met. The NRC finds that any required notifications to other agencies or bodies have been duly made and that there is reasonable assurance that the facility will be constructed and will operate in conformity with the license, as amended, the provisions of the Act, and the Commission regulations. Furthermore, the NRC finds that the licensees are technically and financially qualified to engage in the activities authorized, and that issuance of the license will not be inimical to the common defense and security or to the health and safety of the public. Finally, with respect to the LWAs, the NRC finds that there are no unresolved safety issues related to the activities that would constitue good cause for withholding the authorizations.

Accordingly, the COLs and LWAs were issued on February 10, 2012, and are effective immediately.

II. Further Information

The NRC has prepared a Final Safety Evaluation Report (FSER) and Final Supplemental Environmental Impact Statement (FSEIS) that document the information reviewed and NRC's conclusion. The Commission has also issued its Memorandum and Order documenting its final decision on the uncontested hearing held on September 27-28, 2011, which serves as the Record of Decision in this proceeding. In accordance with 10 CFR 2.390 of the NRC's “Rules of Practice,” details with respect to this action, including the FSER and accompanying documentation included in the combined license package, as well as the Commission's hearing decision, are available electronically at the NRC's Electronic Reading Room at http://www.nrc.gov/reading-rm/adams.html. From this site, persons can access the NRC's Agencywide Document Access and Management System (ADAMS), which provides text and image files of NRC's public documents. The ADAMS accession numbers for the documents related to this notice are:

ML110450302 “Final Safety Evaluation Report for Combined Licenses for Vogtle Electric Generating Plant, Units 3 and 4”

ML11076A010 NUREG-1947, “Final Supplemental Environmental Impact Statement for Combined Licenses for Vogtle Electric Generating Plant, Units 3 and 4”

ML11180A086 VEGP COL Application—Submittal 8 of the application

ML12040A192 Commission's Memorandum and Order on the uncontested hearing (record of decision)

ML112991101 Combined License No. NPF-91

ML113060407 Combined License No. NPF-92

ML113350133 Limited Work Authorization No. LWA-001

ML113350143 Limited Work Authorization No. LWA-002

Persons who do not have access to ADAMS or who encounter problems in accessing the documents located in ADAMS should contact the NRC Public Document Room (PDR) Reference staff by telephone at 1-800-397-4209, 301-415-4737, or by email to pdr.resource@nrc.gov. The documents are also available at http://www.nrc.gov/reactors/new-reactors/col.html.

These documents may also be viewed electronically on the public computers located at the NRC's Public Document Room (PDR), O 1 F21, One White Flint North, 11555 Rockville Pike, Rockville, MD 20852. The PDR reproduction contractor will copy documents for a fee.

For the Nuclear Regulatory Commission.
Dated at Rockville, Maryland, this 13th day of February 2012.
Mark Tonacci,
Chief, Licensing Branch 4, Division of New Reactor Licensing, Office of New Reactors.

[FR Doc. 2012-4824 Filed 2-28-12; 8:45 am]

BILLING CODE 7590-01-P